DEPARTMENT OF TRANSPORTATION

Pipeline and Hazardous Materials Safety Administration

[Docket No. PHMSA-2014-0014]

Pipeline Safety: Public Workshop on Pipeline Safety Management Systems

AGENCY: Pipeline and Hazardous Materials Safety Administration, DOT.

ACTION: Notice of public meeting.

SUMMARY: This notice is announcing a one-day public workshop to discuss the recent Pipeline Safety Management Systems (SMS) national consensus standard. The meeting will include participation from all major pipeline sectors, state and Federal regulators, and public safety advocates. This workshop will detail the development process of the SMS standard. The workshop will also emphasize the core elements of the standard including: Leadership and management commitment; risk management; emergency preparedness and response; competence awareness and training; management review and continuous commitment, and the critical role of safety culture.

DATES: The public workshop will held on Wednesday, April 22, 2015, from 8:00 a.m. to 4:30 p.m. EST. Written comments must be received by June 8, 2015.

ADDRESSES: The workshop will be held at the Westin Galleria, 5060 West Alabama Street, Houston, TX 77056. Hotel reservations can be made under the room block “PHMSA—Pipeline Safety Management SystemWorkshop/”.

The meeting agenda and any additional information will be published on the PHMSA home page Web site at (http://www.phmsa.dot.gov/pipeline), and on the PHMSA meeting page Web site https://primis.phmsa.dot.gov/meetings/MtgHome.mtg?mtg=102.

Registration: Members of the public may attend this free workshop. To help assure that adequate space is provided, all attendees should register for the workshop in advance at https://primis.phmsa.dot.gov/meetings/MtgHome.mtg?mtg=102.

Comments: Members of the public may also submit written comments either before or after the workshop. Comments should reference Docket No. PHMSA-2014-0014. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE. Washington, DC between 9:00 a.m. and 5:00 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement

Anyone may search the electronic form of all comments received for any of our dockets. You may review DOT's complete Privacy Act Statement in the Federal Register published April 11, 2000, (65 FR 19476).

Information on Services for Individuals With Disabilities

For information on facilities or services for individuals with disabilities, or to request special assistance at the meeting, please contact Nancy White, Office of Pipeline Safety, at 202-366-1419 or by email at nancy.white@dot.gov.

FOR FURTHER INFORMATION CONTACT: Ms. Nancy White, Office of Pipeline Safety, at 202-366-1419 or by email at nancy.white@dot.gov, regarding the subject matter of this notice.

SUPPLEMENTARY INFORMATION: The details on this meeting, including the location, times and agenda items, will be available on the meeting page (https://primis.phmsa.dot.gov/meetings/MtgHome.mtg?mtg=102) as they become available. Please note that the public workshop will be webcast. Attendees, both in person and by webcast, are strongly encouraged to register to help ensure accommodations are adequate.

Presentations will be available online at the meeting page and also be posted in the E-Gov Web site: http://www.regulations.gov, at docket number PHMSA-2014-0014 within 30 days following the meeting.

Authority: 49 U.S.C. Chapter 601 and 49 CFR 1.97.

Issued in Washington, DC, on April 3, 2015.
Jeffrey D. Wiese,
Associate Administrator for Pipeline Safety.

[FR Doc. 2015-08115 Filed 4-8-15; 8:45 am]

BILLING CODE 4910-60-P